GENERAL SERVICES ADMINISTRATION

Privacy Act of 1974; Notice of a New System of Records

AGENCY: General Services Administration.

ACTION: Notice.

SUMMARY: The General Services Administration (GSA) is providing notice of a new record system, GSA/PPFM-11 (Pegasys). Pegasys is a commercial-off-the-shelf based financial management system.

Effective Date: The system of records will become effective without further notice on November 27, 2006 unless comments received on or before that date result in a contrary determination.

FOR FURTHER INFORMATION CONTACT: Call or e-mail the GSA Privacy Act Officer: telephone 202-501-1452; e-mail gsa.privacyact@gsa.gov.

ADDRESSES: GSA Privacy Act Officer (CIB), General Services Administration, 1800 F Street, NW., Washington, DC 20405.

SUPPLEMENTARY INFORMATION: Pegasys is part of a shared-services financial operation providing a commercial-off-the-shelf financial system (in a private-vendor hosted environment), financial transaction processing, and financial analysis for its main business lines of Federal supplies and technology, public buildings, and general management and administration offices. GSA also utilizes this shared-service operation to cross service multiple external client agencies. The system information will be accessed and used by GSA employees, training centers, and outside agencies.

Dated: September 28, 2006.
Cheryl Paige,
Acting Director, Office of Information Management.

GSA/PPFM-11

System name:

Pegasys.

System location:

Pegasys records and files are maintained in the Phoenix Data Center (PDC), with records also stored in the Washington, DC Central Office, Ft. Worth regional office, and Kansas City regional office.

Individuals covered by the system: Individuals covered by Pegasys include GSA vendors and Federal employees.

Records in the system:

Pegasys contains records and files pertaining to financial information; therefore, these files and records contain the following privacy data:

• Social Security Number (SSN)

• Employee address

• Banking information

• Credit Card number

Authority for maintaining the system:

The Chief Financial Officers (CFO) Act of 1990 (Pub. L. 101-576) as amended.

Purpose:

Pegasys is the GSA core financial management system of records to make payments and record accounting transactions. This includes funds management (budget execution and purchasing), credit cards, accounts payable, disbursements, standard general ledger, and reporting. It is part of a shared-services financial operation providing a commercial-off-the-shelf (COTS) financial system (in a private-vendor hosted environment), financial transaction processing, and financial analysis for its main business lines of Federal supplies and technology, public buildings, and general management and administration offices. GSA also utilizes this shared-service operation to cross service multiple external client agencies.

Routine uses of the system records, including categories of users and their purpose for using the system:

System information accessed by Pegasys may be used by designated finance center employees and their supervisors, along with designated analysts and managers. System information also may be used:

a. In any legal proceeding, where pertinent, to which GSA is a party before a court or administrative body.

b. To conduct investigations, by authorized officials, that are investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To an expert, consultant, or contractor of GSA in the performance of a Federal duty to which the information is relevant.

f. To the National Archives and Records Administration (NARA) for records management purposes.

Policies and practices for storing, retrieving, accessing, retaining, and disposing of system records:

Storage:

All records and files in Pegasys are stored electronically in a password-protected database format.

Retrieval:

Information on individuals contained in Pegasys records and files are retrievable by name or vendor number.

Safeguards:

Pegasys records and files are safeguarded in accordance with the requirements of the Privacy Act. Access is limited to authorized individuals with passwords, and the database is maintained behind a certified firewall. Information on individuals is released only to authorized persons on a need-to-know basis and in accordance with the provisions of routine use. This system undergoes frequent testing and is certified and accredited for operation. Periodic Privacy Act Impact Assessments are performed as well to ensure the adequacy of security controls to protect personally identifiable information.

Retention and disposal:

Pegasys records and files are retained and disposed of according to GSA records maintenance and disposition schedules and the requirements of the National Archives and Records Administration (NARA).

System manager and address:

Director, Financial Systems Development Division (BDD), General Services Administration, 1800 F Street, NW., Washington, DC 20405.

Notification procedure:

Individuals wishing to inquire if the system contains information about them should contact the Pegasys system manager.

Record access procedure:

Requests for access may be directed to the Pegasys system manager.

Record contesting procedure:

GSA rules for accessing records, for contesting the contents, and appealing initial decisions are in 41 CFR part 105-64, published in the Federal Register.

Record sources:

The sources for information in Pegasys are the individuals for whom the records are maintained, the supervisors of those individuals, and existing agency systems.

[FR Doc. E6-17069 Filed 10-13-06; 8:45 am]

BILLING CODE 6820-34-P